ENVIRONMENTAL PROTECTION AGENCY

[FRL 9905-51-Region 9]

Notice of Proposed Administrative Order on Consent for Waipahu Ash Landfill, Pearl Harbor Naval Complex Superfund Site (partial), Oahu, Hawaii

AGENCY: Environmental Protection Agency (EPA).

ACTION: Notice; request for public comment.

SUMMARY: In accordance with Section 122(i) of the Comprehensive Environmental Response, Compensation and Liability Act of 1980, as amended (“CERCLA”), notice is hereby given of a proposed settlement, embodied in an Administrative Order on Consent (“Consent Order”), with the City and County of Honolulu (“CCH”), under Sections 104, 107 and 122 of CERCLA. The Consent Order concerns work to be done by CCH in connection with the Waipahu Ash Landfill, located in part on the Pearl Harbor Naval Complex Superfund Site, Joint Base Pearl Harbor-Hickam, Oahu, Hawaii and on land owned by the State of Hawaii and CCH. Parties to the Consent Order include the U.S. Environmental Protection Agency (“EPA”), the Department of the Navy (“Navy”), Hawaii Department Health (“DOH”), Hawaii Department of Land and Natural Resources and CCH. The property (the “Site”) that is the subject of this Consent Order includes all areas to which hazardous substances from or related to the now closed Waipahu Ash Landfill have come to be located. Under this Consent Order, CCH agrees to carry out a remedial investigation and feasibility study of the Site under CERCLA. The performance of this work shall be approved and monitored by EPA in Consultation with the Navy and DOH. The settlement includes a covenant not to sue CCH pursuant to Sections 106 or 107(a) of CERCLA. Under the Consent Order, CCH also agrees to pay the Navy $63,062.00 in past response costs and, to EPA, $25,000 in prepayment of anticipated annual EPA future response costs.

DATES: Comments must be received on or before March 7, 2014. For thirty (30) days following the date of publication of this notice, EPA will consider all comments received on the Consent Order and may modify or withdraw its consent to the Consent Order if comments received disclose facts or considerations that indicate that the settlement is inappropriate, improper, or inadequate.

ADDRESSES: The Consent Order is available for public inspection at the United States Environmental Protection Agency, Superfund Records Center, 95 Hawthorne Street, Suite 403S, San Francisco, California 94105. Telephone: 415-536-2000. EPA's response to any comments received will be available for public inspection at the same address.

FOR FURTHER INFORMATION CONTACT: Larry Bradfish, Assistant Regional Counsel (ORC-3), Office of Regional Counsel, U.S. EPA Region IX, 75 Hawthorne Street, San Francisco, CA 94105; Email: bradfish.larry@epa.gov; Phone (415) 972-3934.

Dated: January 27, 2014.
Enrique Manzanilla,
Director, Superfund Division, EPA Region 9.

[FR Doc. 2014-02475 Filed 2-4-14; 8:45 am]

BILLING CODE 6560-50-P